DEPARTMENT OF THE TREASURY

Office of the Comptroller of the Currency

Agency Information Collection Activities: Submission for OMB Review; Comment Request

AGENCY: Office of the Comptroller of the Currency (OCC), Treasury.

ACTION: Notice and request for comment.

SUMMARY: The OCC, as part of its continuing effort to reduce paperwork and respondent burden, invites the general public and other Federal agencies to take this opportunity to comment on a continuing information collection, as required by the Paperwork Reduction Act of 1995. An agency may not conduct or sponsor, and a respondent is not required to respond to, an information collection unless the information collection displays a currently valid OMB control number. The OCC is soliciting comment concerning its information collection titled, “International Regulation—12 CFR 28.” The OCC also gives notice that it has sent the information collection to OMB for review and approval.

DATES: You should submit your comments to the OCC and the OMB Desk Officer by July 15, 2002.

ADDRESSES: You should direct comments to:

Communications Division, Office of the Comptroller of the Currency, Public Information Room, Mailstop 1-5, Attention: 1557-0102, 250 E Street, SW., Washington, DC 20219. Due to recent, temporary disruptions in the OCC's mail service, commenters are encouraged to submit comments by fax or e-mail. Comments may be sent by fax to (202) 874-4448, or by e-mail to regs.comments@occ.treas.gov. You can inspect and photocopy the comments at the OCC's Public Information Room, 250 E Street, SW., Washington, DC 20219. You can make an appointment to inspect the comments by calling (202) 874-5043.

Alexander T. Hunt, OMB Desk Officer for the OCC, Office of Information and Regulatory Affairs, Office of Management and Budget, New Executive Office Building, Room 3208, Washington, DC 20503.

FOR FURTHER INFORMATION CONTACT: You can request additional information or a copy of the collection from Jessie Dunaway, OCC Clearance Officer, or Camille Dixon, (202) 874-5090, Legislative and Regulatory Activities Division, Office of the Comptroller of the Currency, 250 E Street, SW., Washington, DC 20219.

SUPPLEMENTARY INFORMATION: The OCC is proposing to extend OMB approval of the following information collection:

Title: International Regulation—12 CFR 28.

OMB Number: 1557-0102.

Description: This submission covers an existing regulation and involves no change to the regulation or to the information collection. The OCC requests only that OMB extend its approval of the information collection. The OCC's regulations at 12 CFR part 28 implement requirements imposed on national banks and Federal branches and agencies concerning international activities. The information collections in part 28 that are covered by this notice are as follows:

Section 28.3 requires a national bank to notify the OCC when it takes certain actions regarding its foreign operations.

Section 28.14 requires a foreign bank to designate one Federal branch or agency to maintain consolidated information for purposes of monitoring compliance with limitations based upon capital.

Section 28.15 requires a foreign bank with a Federal branch or agency to maintain records regarding its capital equivalency deposit (CED), including agreements entered into with the OCC and a depository bank regarding the CED, and liabilities requiring CED coverage. Section 28.15 also requires a foreign bank to apply to the OCC for exceptions to its rules regarding the CED.

Section 28.16 requires an uninsured Federal branch to maintain records regarding its deposits, such as the average of its deposits during the last 30 days, if the Federal branch seeks to accept deposits from types of depositors that are not listed in the regulation. Section 28.16 also requires a foreign bank to apply to the OCC for an exemption allowing its uninsured Federal branch to accept or maintain types of deposit accounts not listed in the regulation.

Section 28.18 requires a Federal branch or agency to comply with the record keeping and reporting requirements that apply to a national bank, as well as any additional requirements that may be prescribed by the OCC. It requires a Federal branch or agency to maintain records of its transactions separate from those of the parent foreign bank or other branches and agencies of that bank. It also requires the Federal branch or agency to provide the OCC with a copy of certain reports filed with other Federal regulatory agencies.

Section 28.20 requires a foreign bank that is subject to an asset maintenance requirement to keep records of assets maintained in the state in which the Federal branch or agency is located and records of liabilities on which the asset maintenance requirement is based.

Section 28.52 requires a national bank or District of Columbia bank to maintain records regarding any allocated transfer risk reserve for specified international assets.

Section 28.53 requires a national bank or District of Columbia bank to maintain records regarding its accounting for fees and administrative costs on restructured international loans.

These information collection requirements ensure bank compliance with applicable Federal law, further bank safety and soundness, provide protections for banks, and further public policy interests.

Type of Review: Extension of a currently approved collection.

Affected Public: Businesses or other for-profit.

Estimated Number of Respondents/Recordkeepers: 79.

Estimated Total Annual Responses: 130.

Frequency of Response: On occasion.

Estimated Total Annual Burden: 4,625 hours.

Dated: June 7, 2002.
Mark J. Tenhundfeld,
Assistant Director, Legislative and Regulatory Activities Division.

[FR Doc. 02-15068 Filed 6-13-02; 8:45 am]

BILLING CODE 4810-33-P